SMALL BUSINESS ADMINISTRATION

SBIC License Issuance

AGENCY: U.S. Small Business Administration.

ACTION: Notice of Small Business Investment Company (SBIC) Licenses.

SUMMARY: Pursuant to the authority granted to the United States Small Business Administration under section 301(c) of the Small Business Investment Act of 1958, as amended, to grant Small Business Investment Company licenses under the Small Business Investment Company Program, this notice satisfies the requirement effective August 17, 2023 under 13 CFR 107.501(a) to publish in the Federal Register the names of SBICs with date of licensure and Total Intended Leverage Commitments. The following SBICs received SBIC licenses as of the date indicated below:

SBIC Fund name | Date of licensure | Leverage tiers ¹
Milton Street Capital Fund III, L.P | 1/6/2026 | 1.25x.
First In Ventures Fund 3 SBIC Critical Technologies, L.P | 1/6/2026 | 1.25x.
Everside Direct III, L.P | 1/7/2026 | 2.00x.
RFE Investment Partners X, L.P | 1/8/2026 | 1.00x.
Fin Capital Flagship III—SBIC, L.P | 1/12/2026 | Non-leveraged.
True West Capital Partners Fund IV, L.P | 1/15/2026 | 2.00x.
NorthCoast Mezzanine SBIC IV, L.P | 1/15/2026 | 2.00x.
Convergent Capital Partners V, L.P | 1/20/2026 | 2.00x.
Concentric Partners II, L.P | 1/20/2026 | 2.00x.
Resolute Capital Partners Fund VI-A, L.P | 1/29/2026 | 2.00x.
Resolute Capital Partners Fund VI-B, L.P | 1/29/2026 | 2.00x.
BY Capital 3 (US), L.P | 2/11/2026 | 1.00x
Catalyst Investors VI SBIC, L.P | 2/17/2026 | 1.25x.
Z2 SBIC I, L.P | 2/19/2026 | 2.00x.
¹ Maximum amount of Leverage expressed as a multiple of Leverageable Capital pursuant to 13 CFR 107.1150.

Paul Van Eyl,
Director of Policy, Office of Investment and Innovation, U.S. Small Business Administration.

[FR Doc. 2026-04294 Filed 3-3-26; 8:45 am]

BILLING CODE 8026-09-P